DEPARTMENT OF ENERGY

Federal Energy Regulatory Commission

Notice of Application Tendered for Filing with the Commission

November 21, 2006.

Take notice that the following hydroelectric application has been filed with the Commission and is available for public inspection.

a. Type of Application: Minor.

b. Project No.: P-12751-000.

c. Date filed: November 8, 2006.

d. Applicant: AquaEnergy Group, Ltd.

e. Name of Project: Makah Bay Offshore Wave Energy Pilot Project.

f. Location: Pacific Ocean in Makah Bay, Clallam County, Washington near the city of Neah Bay, Washington. The project would occupy about one acre of land on the Makah Indian Reservation and about seven acres of the Olympic Coast National Marine Sanctuary administered by the U.S. Department of Commerce, National Oceanic and Atmospheric Administration and Flattery Rocks National Wildlife Refuge administered by the U.S. Department of the Interior, U.S. Fish and Wildlife Service.

g. Filed Pursuant to: Federal Power Act 16 U.S.C. 791(a)-825(r).

h. Applicant Contact: Mary Jane Parks, P.O. Box 1276, Mercer Island, WA 98059, (626) 568-0798.

i. FERC Contact: Nick Jayjack, (202) 502-6073, Nicholas.Jayjack@ferc.gov.

j. Cooperating agencies: We are asking Federal, state, local, and tribal agencies with jurisdiction and/or special expertise with respect to environmental issues to cooperate with us in the preparation of the environmental document. Agencies who would like to request cooperating status should follow the instructions for filing comments described in item k below. Cooperating agencies should note the Commission's policy that agencies that cooperate in the preparation of the environmental document cannot also intervene. See, 94 FERC ¶ 61,076 (2001).

k. Deadline for filing requests for cooperating agency status: January 8, 2007.

All documents (original and eight copies) should be filed with: Magalie R. Salas, Secretary, Federal Energy Regulatory Commission, 888 First Street, NE., Washington, DC 20426.

Requests for cooperating agency status may be filed electronically via the Internet in lieu of paper. The Commission strongly encourages electronic filings. See 18 CFR 385.2001(a)(1)(iii) and the instructions on the Commission's Web site (http://www.ferc.gov) under the “e-Filing” link.

l. The application is not ready for environmental analysis at this time.

m. The project would consist of: (1) Four, 250-kilowatt wave energy conversion buoys (“AquaBuOYs”) and an associated mooring/anchoring and electrical connection system placed 3.7 miles offshore in water depths of about 150 feet over a rectangular area about 625 feet by 450 feet of ocean floor; (2) a metal shore station that would be about 15 feet long by 15 feet wide by 10 feet high and located just inland of Hobuck Beach (on the Makah Indian Reservation near Neah Bay, Washington) adjacent to an existing power line for interconnection—the shore station would contain equipment necessary to connect to the electrical grid; (3) a driveway and parking area at the metal shore station; and (4) a 3.7-mile long submarine cable anchored to the ocean floor and connecting from one of the buoy's (“collector buoy”) power cable to the metal shore station. The total installed capacity of the project would be 1 megawatt, and the project would generate about 1,500,000 kilowatt-hours annually. AquaEnergy proposes to provide the power generated by the project to the Clallam County PUD for use in its service area.

n. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

o. With this notice, we are initiating consultation with the Washington State Historic Preservation Officer (SHPO), as required by section 106, National Historic Preservation Act, and the regulations of the Advisory Council on Historic Preservation, 36, CFR, at § 800.4.

p. Procedural schedule: The application will be processed according to the following Hydro Licensing Schedule. Revisions to the schedule will be made as appropriate.

Issue Acceptance or Deficiency Letter—February 2007.

Notice soliciting final terms and conditions—February 2007.

Notice of the availability of the draft EA—August 2007.

Notice of the availability of the final EA—November 2007.

Magalie R. Salas,
Secretary.

[FR Doc. E6-20199 Filed 11-28-06; 8:45 am]

BILLING CODE 6717-01-P